ENVIRONMENTAL PROTECTION AGENCY

[FRL-8172-4]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2173.01; Reporting Requirements under EPA's Green Power Partnership and Combined Heat and Power (CHP) Partnership; was approved April 13, 2006; OMB Number 2060-0578; expires April 30, 2009.

EPA ICR No. 1127.08; NSPS for Hot Mix Asphalt Facilities (Renewal); in 40 CFR part 60, subpart I; was approved April 12, 2006;.OMB Number 2060-0083; expires April 30, 2009.

EPA ICR No. 2178.01; Market-based Stormwater Management in the Shepherd Creek Watershed in Cincinnati, OH.; was approved April 13, 2006; OMB Number 2080-0076; expires December 30, 2006.

EPA ICR No. 0246.09; Contractor Cumulative Claim and Reconciliation (Renewal); was approved April 24, 2006; OMB Number 2030-0016; expires April 30, 2009.

EPA ICR No. 1039.11; Monthly Progress Reports (Renewal); was approved April 21, 2006; OMB Number 2030-0005; expires April 30, 2009.

EPA ICR No. 1167.08; NSPS for Lime Manufacturing (Renewal); in 40 CFR part 60, subpart HH; was approved April 25, 2006; OMB Number 2060-0063; expires April 30, 2009.

EPA ICR No. 0938.11; General Administrative Requirements for Assistance Programs (Renewal); in 40 CFR part 30 and 40 CFR part 31; was approved April 26, 2006; OMB Number 2030-0020; expires April 30, 2009.

EPA ICR No. 1189.16; Identification Listing and Rulemaking Petitions (Final Rule for Cathode Ray Tubes); in 40 CFR 261.39(a)(2); 40 CFR 261.39(a)(5); 40 CFR 261.40; 40 CFR 261.41; was approved May 1, 2006; OMB number 2050-0053; expires January 31, 2008.

Comment Filed

EPA ICR No. 0940.19; Ambient Air Quality Surveillance (Proposed Rule); OMB Number 2060-0084; OMB filed comments on April 18, 2006.

Withdrawn and Continued

EPA ICR No. 2155.02; Willingness to Pay Survey: Phase III Cooling Water Intake Structures: Instrument, Pre-test, and Implementation; OMB Number 2040-0262; on April 12, 2006 EPA withdrew ICR.

Dated: May 12, 2006.
Oscar Morales,
Director, Collection Strategies Division.

[FR Doc. E6-7649 Filed 5-18-06; 8:45 am]

BILLING CODE 6560-50-P